Title 3—

The President

Proclamation 9770 of July 26, 2018

National Korean War Veterans Armistice Day, 2018

By the President of the United States of America

A Proclamation

This year marks the 65th anniversary of the signing of the armistice that ended the fighting of the Korean War. For 3 brutal years, our Armed Forces and allies fought valiantly to stop the spread of communism and defend freedom on the Korean Peninsula. On National Korean War Veterans Armistice Day, we remember the bravery and sacrifices of those who fought and died for this noble cause.

On the Korean Peninsula, our brave Soldiers, Sailors, Marines, Airmen, and Coast Guardsmen fought with skill and resolve against tyranny and oppression. Justice, liberty, and democracy prevailed, but victory came at a tremendous cost. More than 33,000 Americans were killed in action during the Korean War, and more than 103,000 were wounded. Thousands more were captured and held as prisoners of war. Many are still missing in action. We will never forget these valiant patriots or their families, who have endured unimaginable loss.

More than six decades after the cease-fire on the Korean Peninsula, our relationship with South Korea continues to flourish. We have forged a powerful friendship built on respect, a mutual desire for economic prosperity, and an unwavering commitment to democratic values and peace through strength.

In contrast, our relationship with North Korea has been hostile, due to continued threats to our allies, their development of weapons of mass destruction and ballistic missile programs, and ongoing human rights violations. Last month's historic summit with Chairman Kim Jong Un in Singapore, however, has offered a renewed sense of hope for the future—including the promise of complete denuclearization of the Korean Peninsula. During this summit, I raised my concern for the many American families who have been unable to properly bury the loved ones they lost during the Korean War and bring closure to this chapter in their lives. As a result, Chairman Kim and I announced our commitment to the recovery and repatriation of the remains of Americans missing in action. My Administration will fulfill our Nation's solemn duty to bring our patriots home with dignity and honor.

Today, we honor our Korean War Veterans for their immeasurable contributions to the cause of liberty. We also salute members of the armed forces, past and present, who have maintained an allied presence on the Korean Peninsula since the 1953 armistice. Their efforts to stave off aggression are worthy of our highest respect and gratitude.

NOW, THEREFORE, I, DONALD J. TRUMP, President of the United States of America, by virtue of the authority vested in me by the Constitution and the laws of the United States, do hereby proclaim July 27, 2018, as National Korean War Veterans Armistice Day. I call upon all Americans to observe this day with appropriate ceremonies and activities that honor and give thanks to our distinguished Korean War Veterans.

IN WITNESS WHEREOF, I have hereunto set my hand this twenty-sixth day of July, in the year of our Lord two thousand eighteen, and of the Independence of the United States of America the two hundred and forty-third.

[FR Doc. 2018-16555

Filed 7-30-18; 11:15 am]

Billing code 3295-F8-P